DEPARTMENT OF ENERGY

Federal Energy Regulatory Commission

[Docket No. EL05-87-000]

Tucson Electric Power Company; Notice of Institution of Proceeding and Refund Effective Date

April 19, 2005.

On April 14, 2005, the Commission issued an order initiating a proceeding in Docket No. EL05-87-000 under section 206 of the Federal Power Act concerning the justness and reasonableness of Tucson Electric Power Company's market-based rates in the Tucson control area. Tucson Electric Power Company 111 FERC ¶61,037 (2005).

The refund effective date in Docket No. EL05-87-000, established pursuant to section 206 of the Federal Power Act, will be 60 days following publication of this notice in the Federal Register.

Magalie R. Salas,
Secretary.

[FR Doc. E5-2032 Filed 4-27-05; 8:45 am]

BILLING CODE 6717-01-P